ENVIRONMENTAL PROTECTION AGENCY

[FRL-6871-8]

Regulatory Reinvention (XL) Pilot Projects

AGENCY: Environmental Protection Agency (EPA).

ACTION: Notice of availability of Anne Arundel County Landfill Project XL Draft Final Project Agreement.

SUMMARY: EPA is today requesting comments on a draft Project XL Final Project Agreement (FPA) for Anne Arundel County, Severn, Maryland.

DATES: The period for submission of comments on the draft EPA ends on September 29, 2000.

ADDRESSES: All comments on the draft Final Project Agreement should be sent to: Ms. Sherri Walker, U.S. EPA, 1200 Pennsylvania Avenue, NW (1802), Washington, DC 20460. Comments may also be faxed to Sherri Walker at (202) 260-3125. Comments will also be received via electronic mail sent to walker.sherri@epa.gov.

FOR FURTHER INFORMATION CONTACT: To obtain a copy of the draft Final Project Agreement, contact: Charles Howland, US EPA, Region 3 (3RC41), 1650 Arch Street, Philadelphia, Pennsylvania 19103, or Sherri Walker, US EPA, Mail Code 1802, Ariel Rios Building, 1200 Pennsylvania Avenue, NW, Washington, D.C. 20460. The FPA and related documents are also available via the Internet at the following location: “http://www.epa.gov/ProjectXL”. In addition, project documents are located at EPA Region 3, at 1650 Arch Street, Philadelphia, Pennsylvania 19103. Questions to EPA regarding the documents can be directed to Charles Howland at (215) 744-2331 or Sherri Walker at (202) 260-4295. Additional information on Project XL, including documents referenced in this notice, other EPA policy documents related to Project XL, application information, and descriptions of existing XL projects and proposals, is available via the Internet at “http://www.epa.gov/ProjectXL”.

SUPPLEMENTARY INFORMATION: The FPA is a voluntary agreement developed by Anne Arundel County, the State of Maryland, and EPA. Project XL, announced in the Federal Register on May 23, 1995 (60 FR 27282), gives regulated entities the opportunity to develop alternative strategies that will replace or modify specific regulatory requirements on the condition that they produce greater environmental benefits. If implemented, some of the superior environmental benefits that Anne Arundel County expects to achieve with this project include: rapid waste biodegradation and stabilization; improved leachate quality; increased gas yield and capture; reduction in the potential for uncontrolled releases of leachate to contaminate the groundwater, or gas to contaminate the air during the post-closure phase (should a containment system failure occur); increased lifespan of the landfill resulting in less need for construction of additional landfills; and reduced post-closure costs.

The terms and conditions pertaining to this XL pilot project are contained in the draft Final Project Agreement (FPA), on which EPA is requesting comment today. The draft FPA sets forth the intentions of EPA, Anne Arundel County, and the State of Maryland with regard to the implementation of the project and the expected benefits. After review of the comments received during the public comment period and revision of the FPA, as appropriate, the FPA will be signed by representatives from the EPA, the State of Maryland, and Anne Arundel County.

The legal implementing mechanism for this project will be a site-specific rule. The draft rule is scheduled for publication in the Federal Register for public review and comment in November 2000. The proposed rule would be “conditional” and would depend on implementation of the alternative design proposed today. Upon completion of the rulemaking, this design would be enforceable in the same way that current RCRA standards for landfills are enforceable to ensure that management of nonhazardous solid waste is performed in a manner that is protective of human health and the environment. The Final Project Agreement and the site-specific rule will not in any way affect the provisions or applicability of any other existing or future regulations.

Dated: September 13, 2000.
Elizabeth A. Shaw,
Director, Office of Environmental Policy Innovation.

[FR Doc. 00-24013 Filed 9-15-00; 8:45 am]

BILLING CODE 6560-50-P